DEPARTMENT OF THE INTERIOR

Bureau of Land Management

[NM-930-1430-ET; NMNM 56990]

Expiration of Bureau of Reclamation Withdrawal and Opening of Land; New Mexico

AGENCY: Bureau of Land Management, Interior.

ACTION: Notice.

SUMMARY: Public Land Order No. 6607 which withdrew public land for use by the Bureau of Reclamation as a quarry site has expired. This notice opens the land to settlement, sale, location, and entry under the general land laws, including the United States mining laws.

EFFECTIVE DATE: November 26, 2003.

FOR FURTHER INFORMATION CONTACT: Jeanette Espinosa, BLM New Mexico State Office, 1474 Rodeo Road, Santa Fe, New Mexico 87502, 505-438-7597.

SUPPLEMENTARY INFORMATION: 1. Public Land Order No. 6607 which withdrew the following described land for use by the Bureau of Reclamation as a quarry site for the construction and maintenance of the Brantley Dam expired on June 3, 1995.

New Mexico Principal Meridian

T. 21 S., R. 24 E.,

Sec. 25, N½NE¼SE¼ and S½SE¼NE¼.

The area described contains 40 acres in Eddy County.

2. At 10 a.m. on November 26, 2003, the land will be opened to the operation of the public land laws generally, subject to valid existing rights, the provisions of existing withdrawals, other segregations of record, and the requirements of applicable law. All valid applications received at or prior to 10 a.m. on November 26, 2003, shall be considered as simultaneously filed at that time. Those received thereafter shall be considered in the order of filing.

3. At 10 a.m. on November 26, 2003, the land will be opened to location and entry under the United States mining laws, subject to valid existing rights, the provisions of existing withdrawals, other segregations of record, and the requirements of applicable law. Public Land Order No. 6607 did not withdraw the lands from leasing under the mineral leasing laws. Appropriation of any of the land described in this order under the general mining laws prior to the date and time of restoration is unauthorized. Any such attempted appropriation, including attempted adverse possession under 30 U.S.C. 38 (2000), shall vest no rights against the United States.

Dated: September 15, 2003.
Carsten F. Goff,
Deputy State Director, Resource Planning, Use, and Protection.

[FR Doc. 03-27003 Filed 10-24-03; 8:45 am]

BILLING CODE 4310-FB-P